DEPARTMENT OF LABOR

Occupational Safety and Health Administration

[Docket No. OSHA-2007-0090]

Voluntary Protection Program Application Information; Extension of the Office of Management and Budget's (OMB) Approval of Information Collection (Paperwork) Requirements

AGENCY: Occupational Safety and Health Administration (OSHA), Labor.

ACTION: Request for public comment.

SUMMARY: OSHA solicits public comment concerning its proposal to extend OMB approval of the information collection requirements contained in the Voluntary Protection Programs.

DATES: Comments must be submitted (postmarked, sent, or received) by April 21, 2008.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit three copies of your comments and attachments to the OSHA Docket Office, OSHA Docket No. OSHA-2007-0090, U.S. Department of Labor, Occupational Safety and Health Administration, Room N-2625, 200 Constitution Avenue, NW., Washington, DC 20210. Deliveries (hand, express mail, messenger, and courier service) are accepted during the Department of Labor's and Docket Office's normal business hours, 8:15 a.m. to 4:45 p.m., e.t.

Instructions: All submissions must include the Agency name and OSHA docket number for the ICR (OSHA-2007-0090). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download through the website. All submissions, including copyrighted material, are available for inspection and copying at the OSHA Docket Office. You may also contact Cathy Oliver at the address below to obtain a copy of the ICR.

FOR FURTHER INFORMATION CONTACT: Cathy Oliver, Director, Office of Partnerships and Recognition, Directorate of Cooperative and State Programs, OSHA, U.S. Department of Labor, Room N-3700, 200 Constitution Avenue, NW., Washington, DC 20210; telephone (202) 693-2213.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA 95) [44 U.S.C. 3506(c)(2)(A)]. This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (29 U.S.C. 657).

The Voluntary Protection Programs (VPP) [47 FR 29025], adopted by OSHA, established the efficacy of cooperative action among government, industry, and labor to address employee safety and health issues and to expand employee protection. To qualify, employers must meet OSHA's rigorous safety and health management criteria which focus on comprehensive management systems and active employee involvement to prevent or control worksite safety and health hazards. Employers who qualify generally view OSHA standards as a minimum level of safety and health performance, and set their own more stringent standards, wherever necessary, to improve employee protection.

Prospective VPP worksites must submit an application that includes:

General applicant information (e.g., site, corporate, and collective bargaining contact information).

Injury and illness rate performance information (i.e., number of employees and/or applicable contractors on-site, type of work performed and products produced, North American Industry Classification System, and Recordable Injury and Illness Case Incidence Rate information).

Safety and health management system information (i.e., description of the applicant's safety and health management system including how the system successfully addresses management leadership and employee involvement, worksite analysis, hazard prevention and control, and safety and health training).

OSHA uses this information to determine whether an applicant is ready for a VPP on-site evaluation and as a verification tool during VPP on-site evaluations. Without this information, OSHA would be unable to determine which sites are ready for VPP status.

Each current VPP applicant is also required to submit an annual evaluation which addresses how that applicant is continuing its adherence to programmatic requirements.

In 2008 OSHA modified procedures for VPP applicants, OSHA on-site evaluation, and annual participant self-evaluation for applicants/participants subject to OSHA's Process Safety Management (PSM) Standard. Applicants that perform work that uses or produces highly hazardous chemicals exceeding specified limits covered under the (PSM) standard must submit responses to the PSM application supplement along with their VPP application.

Once in the VPP, the participant is required to submit an annual evaluation detailing its continued adherence to programmatic requirements. Applicants covered under the PSM standard are required to submit a PSM questionnaire, a supplemental document as part of their annual submission. OSHA needs this information to ensure that the participant remains qualified to participate in the VPP between onsite evaluations. Without this information, OSHA would be unable to determine whether applicants are maintaining excellent safety and health management systems during this interim period.

The Occupational Safety and Health Administration (OSHA) decided to continue the OSHA Challenge and VPP Corporate Pilot programs. These new initiatives will expand VPP to promote the safety and health of thousands of employees across the nation.

OSHA Challenge is designed to reach and guide employers and companies in all major industry groups who are strongly committed to improving their safety and health management systems and are interested in pursuing recognition in VPP. OSHA Challenge provides participants a guide or roadmap to improve performance and ultimately to achieve VPP approval. OSHA Challenge outlines the requirements needed to develop and implement effective safety and health management systems through incremental steps. At each stage, certain actions, documentation and outcomes are required in the areas covered by VPP criteria. Participants receive recognition from OSHA at the completion of each stage.

Each Challenge Pilot Administrator is required to submit to OSHA electronically a Challenge Pilot Administrator's application package, Administrator's Statement of Commitment, Challenge Pilot Administrator Information Form, Challenge Pilot Administrator's Quarterly Report (if there have been significant changes to any of its participants' sites), Challenge Pilot Administrator's Annual Report (The Challenge Pilot Administrator must prepare and submit the annual report electronically to OSHA).

The VPP Corporate Pilot is designed to provide a more efficient process for corporations to increase their level of participation in VPP. The pilot concept is two-fold; the corporations submit an application that describes corporate level policies and programs that are uniformly applied at facilities across the corporation. A comprehensive On-site Corporate Evaluation is conducted by OSHA to verify the contents of the application. Once a corporation is accepted in the VPP Corporate Pilot, all eligible corporate facilities will apply for VPP participation using a more efficient streamlined application and OSHA conducts a more streamlined on-site evaluation. Corporations accepted in the VPP Corporate Pilot must submit an annual safety and health report.

Employees of VPP participants may apply to participate in the Special Government Employee (SGE) Program. The SGE Program was established as a means to leverage OSHA's limited resources. Through this program, employees of VPP participants are trained to take part as team members during VPP on-site evaluations. In that capacity, Special Government Employees may review company documents, assist with worksite walkthroughs, interview employees, and assist in preparing VPP on-site evaluation reports. Potential Special Government Employees must submit a Special Government Employee's application that includes:

SGE Eligibility Information Sheet (i.e., applicant's name, professional credentials, site/corporate contact information, etc.).

Current Resume.

Confidential Financial Disclosure Report (OGE Form 450).

OSHA uses the SGE Eligibility Information Sheet to ensure that the potential SGE works at a VPP site and meets the minimum eligibility qualifications. The resume is required to provide a detailed description of their current duties and responsibilities as they relate to safety and health and the implementation of an effective safety and health management system. The OGE Form 450 is used to ensure that SGEs do not participate on on-site evaluations at VPP sites where they have a financial interest.

II. Special Issues for Comment

OSHA has a particular interest in comments on the following issues:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) Approval of the collection of information (paperwork) requirements necessitated by the Voluntary Protection Programs. The Agency will summarize the comments submitted in response to this notice, and will include this summary in its request to OMB to extend the approval of these information collection requirements.

Type of Review: Extension of currently approved collection.

Title: Voluntary Protection Programs Information.

OMB Number: 1218-0239.

Affected Public: Business or other for-profits; and individuals or households.

Number of Respondents:

VPP

274 Applications

68 Process Safety Management Applications

1,300 Annual Evaluations

300 (PSM) Annual Evaluations/Supplemental Questionnaire

OSHA Challenge

17 Applications from Challenge Pilot Administrators

120 Applications from Challenge Pilot Candidates

120 Quarterly Reports

120 Annual Evaluations

VPP Corporate

7 Applications from VPP Corporations

120 Applications from VPP Corporate Facilities

7 Annual Reports

Special Government Employees

300 SGE Eligibility Information Sheets

300 Resumes

300 Confidential Financial Disclosure Forms (OGE-Form 450)

Total respondents: 2,985 total respondents.

Frequency: VPP applications, Challenge Pilot Administrator's applications, Challenge Pilot Candidate applications, VPP Corporate Pilot applications and VPP Corporate Pilot Facility VPP applications are submitted once; Challenge Pilot Administrator's Quarterly Reports are submitted quarterly (if there have been significant changes to any of its participants' sites); VPP Annual Evaluations, Challenge Pilot Administrator's Annual Report, and Corporate Safety and Health Reports are submitted once per year; and Special Government Employee applications are submitted once every three years.

Average Time Per Response:

VPP General

200 hours for VPP applications

20 hours for VPP evaluations

Process Safety Management

40 hours for applications

20 hours for evaluations

OSHA Challenge

5 hours for Challenge Pilot Administrator applications

10 hours for Challenge Pilot Candidate applications

5 hours for Challenge Pilot Candidate quarterly reports

20 hours for Challenge Pilot Candidate annual reports

VPP Corporate

120 hours for VPP Corporations applications

80 hours for VPP Corporate facility applications

40 hours for VPP Corporations annual reports

Special Government Employees (SGE)

30 minutes for SGE Eligibility Information Sheet

60 minutes for SGE Resume

Estimated Total Burden Hours:

VPP General

54,800 hours for VPP application

26,000 hours for VPP annual evaluations

Process Safety Management

2,720 hours for applications

6,000 hours for annual evaluations

OSHA Challenge

85 hours for Challenge Administrators' applications

1,200 hours for Challenge Pilot Candidates' applications

1,800 hours for Challenge Candidates' quarterly reports

2,400 hours for Challenge Candidates' annual reports

VPP Corporate

840 hours for Corporations' applications

9,600 hours for Corporate VPP facility applications

280 hours for Corporate facility annual reports

Special Government Employees (SGE)

150 hours for SGE Eligibility Information Sheet

300 hours for Resume

Total Burden Hours per year (3-year average): 106,175.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (FAX); or (3) by hard copy. All comments, attachments, and other material must identify the Agency name and the OSHA docket number for the ICR (Docket No. OSHA-2007-0090). You may supplement electronic submissions by uploading document files electronically. If you wish to mail additional materials in reference to an electronic or facsimile submission, you must submit them to the OSHA Docket Office (see the section of this notice titled ADDRESSES The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350 (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download through this Web site. All submissions, including copyrighted material, are available for inspection and copying at the OSHA Docket Office. Information on using the http://www.regulations.gov Web site to submit comments and access the docket is available at the Web site's “User Tips” link. Contact the OSHA Docket Office for information about materials not available through the web site, and for assistance in using the Internet to locate docket submissions.

V. Authority and Signature

Edwin G. Foulke, Jr., Assistant Secretary of Labor for Occupational Safety and Health, directed the preparation of this notice. The authority for this notice is the Paperwork Reduction Act of 1995 (44 U.S.C. 3506 et seq.) and Secretary of Labor's Order No. 3-2007 (67 FR 31159).

Signed at Washington, DC on February 14, 2008.
Edwin G. Foulke, Jr.,
Assistant Secretary of Labor for Occupational Safety and Health.

[FR Doc. E8-3153 Filed 2-20-08; 8:45 am]

BILLING CODE 4510-26-P